DEPARTMENT OF THE INTERIOR

Bureau of Land Management

[CO-130-01-1610-DS-241A]

Notice of Intent To Prepare an Environmental Impact Statement (EIS)

AGENCY: Bureau of Land Management, Interior.

ACTION: Notice of intent.

SUMMARY: The Bureau of Land Management(BLM) announces its intent to prepare a management plan for the CCNCA. This notice initiates the public scoping, the planning review process; and the EIS associated with completion of the CCNCA Management Plan. The Act establishing the CCNCA directs the Secretary of the Interior to develop a “comprehensive plan for the long-range protection and management of the Conservation Area” by October 24, 2003.

DATES: The formal scoping comment period will commence with the publication of this notice and end 60 days after publication of this notice. Comments on issues, alternatives, and the preliminary planning criteria to be addressed in the CCNCA Management Plan and EIS should be received on or before the end of the scoping period at the address listed below. During this formal scoping comment period, an open house will be held in Grand Junction, Colorado, where BLM personnel will be available to respond to questions and provide other information pertaining to the preparation of the documents. There will be subsequent public review periods and open houses where additional public comment will be requested, including a formal comment period on the draft EIS/CCNCA Management Plan. At least 15 days public notice will be given for the open houses or other public meetings. Written comments will be accepted throughout the planning process at the address shown below. All open house and comment deadlines will be announced through the local news media, newsletters and on the CCNCA website (http://www.co.blm.gov/gjra/ccnca/ccncahome.htm).

ADDRESSES: For further information, to provide written comments, or to be placed on the mailing list, contact Bureau of Land Management, CCNCA RMP Amendment, 2815 H Road, Grand Junction,Colorado 81506; e-mail Jane_Ross@co.blm.gov; Telephone (970) 244-3000. Individual respondents may request confidentiality. If you wish to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, are available for public inspection in their entirety.

SUPPLEMENTARY INFORMATION: The CCNCA is located in both Colorado and Utah, and preparation of the CCNCA plan may involve amendment of both the Grand Junction RMP in Colorado and the Grand RMP in Utah. The Grand Junction Field Office, located in Colorado, is responsible for management of the CCNCA and preparation of the CCNCA plan. The BLM will work closely with interested parties to identify the management discussions that are best suited to the needs of the public. This collaborative process will take into account local, regional, and national needs and concerns. The Act establishing the 122,300 acre CCNCA in western Colorado and eastern Utah was signed into law by the President on October 24, 2000. The purpose of the Act is to conserve, protect, and enhance for the benefit and enjoyment of present and future generations the unique and nationally important values of the public lands in the CCNCA, including geology, recreation, cultural, paleontological, biological, wilderness, wildlife, educational, and scenic resources. The Act also designates 75,550 acres of the CCNCA as the Black Ridge Canyons Wilderness Area. There are 5,500 acres of the CCNCA located in the state of Utah. The Grand Junction Field Office in Colorado will coordinate with the Moab Field Office in Utah during preparation of the CCNCA Management Plan.

Management of the CCNCA is currently guided by the Ruby Canyon/Black Ridge Integrated Management Plan completed in March 1998. The Grand Junction RMP and the Grand RMP, in addition to several activity level management plans, include other decisions affecting the CCNCA. On February 13, 2001, the BLM Colorado State Director issued interim guidance for management of the CCNCA pending completion of the final Management Plan. All of these documents will be reviewed during preparation of the CCNCA Management Plan.

The CCNCA Plan and associated EIS will be prepared by an interdisciplinary team. Disciplines to be represented on the team include: Archaeology, botany, fisheries, geology, hydrology, paleontology, range management, realty, recreation, soils, wilderness, and wildlife. Pursuant to the Act establishing the CCNCA, an advisory council is currently being established to advise the BLM the management of the CCNCA. The advisory council is also anticipated to take an active role in preparation of the CCNCA Management Plan.

Preliminary issues identified by the BLM for the CCNCA plans include travel management, recreation, use authorizations such as rights-of-ways and grazing, management of natural resources, wilderness stewardship, and integration of the CCNCA Management Plan with other agency and community plans. Public involvement gained through the initial scoping comment period will be utilized to refine these topics and identify any additional issues to be evaluated.

Planning criteria are the standards, rules, and other factors used in formulating judgements about data collection, analysis, and decision making associated with preparation of the CCNCA Management Plan. These criteria establish parameters and help focus preparation of the effort. Public comment is also welcomed on the following preliminary planning criteria, which will be utilized in the preparation of the CCNCA Management Plan.

A. The CCNCA Management Plan will be completed in compliance with the Federal Land Policy and Management Act and all other applicable laws.

B. The project team will work cooperatively with the States of Colorado and Utah, tribal governments, county and municipal governments, other Federal agencies, and all other interested groups, agencies, and individuals. Public participation will be encouraged throughout the process.

C. Completion of the CCNCA Management Plan will include preparation of an EIS that will comply with the National Environmental Policy Act.

D. The CCNCA Management Plan will evaluate valid existing rights in the various alternative management schemes.

E. The lifestyles and concerns of area residents, including the activities of grazing, recreational use, off-highway vehicle use, and wilderness management will be addressed in the CCNCA Management Plan.

F. Preparation of the CCNCA Management Plan will involve coordination with Native American tribal governments and will provide strategies for the protection of recognized traditional uses.

G. Decisions in the CCNCA Management Plan will strive to be compatible with existing plans and policies of adjacent local, State and Federal agencies.

H. The CCNCA Management Plan will comply with the legislative directives, needs, and obligations set forth by the legislation establishing the CCNCA.

Catherine Robertson,
Field Manager, Grand Junction Field Office.

[FR Doc. 01-30322 Filed 12-6-01; 8:45 am]

BILLING CODE 4310-JB-P